DEPARTMENT OF JUSTICE

Notice of Lodging of Proposed Second Amendment to Consent Decree Under CERCLA

On July 12, 2023, the Department of Justice lodged a proposed Second Amendment To Consent Decree with the United States District Court for the Northern District of New York in the lawsuit entitled United States of America v. Boise Cascade Corporation, et al., Civil Case No. 97-cv-1704 (TJM).

The proposed Second Amendment To Consent Decree is intended to modify the Consent Decree entered by the Court on February 20, 1998, as amended by the First Amendment To Consent Decree, entered by the Court on June 7, 2005. The Complaint in this matter was filed on November 20, 1997. Under the Consent Decree, as amended in 2005, Settling Defendants are required to perform remedial work at the Sealand Superfund Restoration Site (“the Site”) located in Lisbon, New York and to reimburse the Environmental Protection Agency's response costs pertaining to this Site in accordance with the requirements of the Comprehensive Environmental Response, Compensation and Liability Act (“CERCLA”), 42 U.S.C. 9601-9675. One of the Settling Defendants, SBC Holdings Inc. (“SBC”), now lacks the financial capability to continue these obligations. The proposed Second Amendment To Consent Decree includes an ability-to-pay-cash-out settlement with SBC in which it will pay $150,000 and removes SBC as a Settling Defendant responsible for future work and costs at the Site. The remaining Settling Defendants have agreed to the proposed Second Amendment and will continue to be jointly and severally liable for all work and costs at the Site.

The publication of this notice opens a period for public comment on the Consent Decree. Comments should be addressed to the Assistant Attorney General, Environment and Natural Resources Division, and should refer to United States of America v. Boise Cascade Corporation, et al., Civil Case No. 97-cv-1704 (TJM), D.J. Ref. No. 90-11-3-1144/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request for a paper copy and payment to: Consent Decree Library, U.S. DOJ—ENRD, P.O. Box 7611, Washington, DC 20044-7611.

Please enclose a check or money order for $5.75 (25 cents per page reproduction cost), payable to the United States Treasury.

Henry Friedman,
Assistant Section Chief, Environmental Enforcement Section, Environment and Natural Resources Division.

[FR Doc. 2023-15287 Filed 7-18-23; 8:45 am]

BILLING CODE 4410-15-P